Proclamation 8496 of April 9, 2010

National Former Prisoner of War Recognition Day, 2010

By the President of the United States of America

A Proclamation

Our Nation’s former prisoners of war faced tremendous challenges and dangers to protect us all. Many gave their last full measure of devotion to defend our freedom, and we are forever in their debt. Each year, on National Former Prisoner of War Recognition Day, the American people pay tribute to these heroes.

Through multiple wars, thousands of American service members have faced unimaginable cruelty and unspeakable treatment at the hands of foreign captors. Many sacrificed their own well-being to protect their fellow prisoners, the war effort, and our country. The families suffered as well, unsure of their loved ones’ fates, just as the captured warriors were unsure of what the next day would bring. Not all of these courageous men and women, who persevered bravely and sometimes alone, are prominently noted in our history books. Yet, their stories are etched in our national conscience, and their courage is enshrined in the tradition of honor and bravery that is the mark of our Armed Forces.

America’s former prisoners of war gave their freedom so that we can enjoy our own. We may never know the full extent of injuries received nor burdens borne by these heroes and their families, but neither shall we forget their selfless sacrifice and unshakeable resolve.

NOW, THEREFORE, I, BARACK OBAMA, President of the United States of America, by virtue of the authority vested in me by the Constitution and the laws of the United States, do hereby proclaim April 9, 2010, as National Former Prisoner of War Recognition Day. I call upon all Americans to observe this day of remembrance by honoring our service members, veterans, and all American prisoners of war. I also call upon Federal, State, and local government officials and organizations to observe this day with appropriate ceremonies and activities.

IN WITNESS WHEREOF, I have hereunto set my hand this ninth day of April, in the year of our Lord two thousand ten, and of the Independence of the United States of America the two hundred and thirty-fourth.

[FR Doc. 2010-8673

Filed 4-13-10; 8:45 am]

Billing code 3195-W0-P